DEPARTMENT OF COMMERCE

Foreign-Trade Zones Board

[B-17-2013]

Foreign-Trade Zone 84—Houston, TX; Notification of Proposed Production Activity; Toshiba International Corporation (Hybrid Electric Vehicle Motors and Generators Production)

The Port of Houston Authority, grantee of FTZ 84, submitted a notification of proposed production activity on behalf of Toshiba International Corporation (Toshiba), located in Houston, Texas. The notification conforming to the requirements of the regulations of the Board (15 CFR 400.22) was received on February 11, 2013.

The Toshiba facility is located at 13131 West Little York Road, Houston (Harris County), Texas. A separate application for subzone status at the Toshiba facility is planned and will be processed under Section 400.31 of the Board's regulations. The facility is used for the production of electric motors and generators for hybrid electric vehicles (HEV). Pursuant to 15 CFR 400.14(b), FTZ activity would be limited to the specific foreign-status materials and components and specific finished products included in the submitted notification (as described below) and subsequently authorized by the FTZ Board.

Production under FTZ procedures could exempt Toshiba from customs duty payments on the foreign status components used in export production. On its domestic sales, Toshiba would be able to choose the duty rates during customs entry procedures that apply to electric motors and generators (duty rates range from free to 2.5%) for the foreign status inputs noted below. Customs duties also could possibly be deferred or reduced on foreign status production equipment.

The components and materials sourced from abroad include: Plastic film, strips and sheets, synthetic textile cord, cloth for technical uses, steel nuts and washers, parts of motors and generators, permanent magnets, variable resistors, electric terminals and couplings, electric synchros and transducers (duty rates range from free to 4.2%). Toshiba has indicated that the textile cord would be admitted to the proposed subzone in privileged foreign status.

Public comment is invited from interested parties. Submissions shall be addressed to the Board's Executive Secretary at the address below. The closing period for their receipt is April 10, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane.Finver@trade.gov or (202) 482-1367.

Dated: February 26, 2013.
Andrew McGilvray,
Executive Secretary.

[FR Doc. 2013-04837 Filed 2-28-13; 8:45 am]

BILLING CODE P